DEPARTMENT OF COMMERCE

National Oceanic and Atmospheric Administration

RIN 0648-XY09

Marine Mammals; File No. 14682

AGENCY: National Marine Fisheries Service (NMFS), National Oceanic and Atmospheric Administration (NOAA), Commerce.

ACTION: Notice; issuance of permit.

SUMMARY: Notice is hereby given that NMFS has issued a permit to Whitlow Au, Ph.D., University of Hawaii, Hawaii Institute of Marine Biology, Marine Mammal Research Program, PO Box 1106, Kailua, HI 96734, to conduct research on marine mammals.

ADDRESSES: The permits and related documents are available for review upon written request or by appointment in the following offices: See SUPPLEMENTARY INFORMATION.

FOR FURTHER INFORMATION CONTACT: Kristy Beard or Carrie Hubard at (301)713-2289.

SUPPLEMENTARY INFORMATION: On November 12, 2009, notice was published in the Federal Register (74 FR 58243) that a request for a permit to conduct scientific research on marine mammals had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

A five-year permit was issued to Dr. Au to investigate the population dynamics and behavior of cetaceans around Hawaii and the Pacific, to determine aspects of the behavior and use of the acoustic environment by large whales, and to determine the effects of noise on behavior of cetaceans around Hawaii. The permit authorizes researchers to conduct behavioral observations, photo-identification, genetic sampling, suction-cup tagging, acoustic recording, and acoustic playbacks from vessels on: Blainville's beaked whale (Mesoplodon densirostris), Cuvier's beaked whale (Ziphius cavirostris), killer whale (Orcinus orca), humpback whale (Megaptera novaeangliae), dwarf sperm whale (Kogia sima), pygmy sperm whale (K. breviceps), short-finned pilot whale (Globicephala macrorhynchus), false killer whale (Pseudorca crassidens), pygmy killer whale (Feresa attenuata), melon-headed whale (Peponocephala electra), long-beaked common dolphin (Delphinus capensis), short-beaked common dolphin (D. delphis), striped dolphin (Stenella coeruleoalba), spinner dolphin (S. longirostris), pantropical spotted dolphin (S. attenuata), bottlenose dolphin (Turisiops truncatus), Risso's dolphin (Grampus griseus), Pacific white-sided dolphin (Lagenorhynchus obliquidens), and rough-toothed dolphin (Steno bredanensis).

In compliance with the National Environmental Policy Act of 1969 (42 U.S.C. 4321 et seq.), an environmental assessment (EA) was prepared analyzing the effects of the permitted activities on the human environment. Based on the analyses in the EA, NMFS determined that issuance of the permit will not significantly impact the quality of the human environment and that preparation of an environmental impact statement was not required. That determination is documented in a Finding of No Significant Impact (FONSI), signed on July 14, 2010.

Issuance of the permit, as required by the ESA, was based on a finding that such permit: (1) was applied for in good faith; (2) will not operate to the disadvantage of such endangered species; and (3) is consistent with the purposes and policies set forth in section 2 of the ESA.

Documents may be reviewed in the following locations:

Permits, Conservation and Education Division, Office of Protected Resources, NMFS, 1315 East-West Highway, Room 13705, Silver Spring, MD 20910; phone (301)713-2289; fax (301)713-0376;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)944-2200; fax (808)973-2941.

Dated: August 9, 2010.
P. Michael Payne,
Chief, Permits, Conservation and Education Division, Office of Protected Resources, National Marine Fisheries Service.

[FR Doc. 2010-20084 Filed 8-12-10; 8:45 am]

BILLING CODE 3510-22-S